DEPARTMENT OF ENERGY

Federal Energy Regulatory Commission

Combined Notice of Filings

Take notice that the Commission has received the following Natural Gas Pipeline Rate and Refund Report filings:

Filings Instituting Proceedings

Docket Numbers: RP19-133-000.

Applicants: Algonquin Gas Transmission, LLC.

Description: § 4(d) Rate Filing: Negotiated Rate—Boston releases to be effective 11/1/2018.

Filed Date: 10/29/18.

Accession Number: 20181029-5025.

Comments Due: 5 p.m. ET 11/13/18.

Docket Numbers: RP19-134-000.

Applicants: Texas Eastern Transmission, LP.

Description: § 4(d) Rate Filing: Negotiated Rate—EDF Trading 8953795 to be effective 11/1/2018.

Filed Date: 10/29/18.

Accession Number: 20181029-5045.

Comments Due: 5 p.m. ET 11/13/18.

Docket Numbers: RP19-135-000.

Applicants: Texas Eastern Transmission, LP.

Description: § 4(d) Rate Filing: Negotiated Rate—Exelon 8953829 to be effective 11/1/2018.

Filed Date: 10/29/18.

Accession Number: 20181029-5060.

Comments Due: 5 p.m. ET 11/13/18.

Docket Numbers: RP19-136-000.

Applicants: Transcontinental Gas Pipe Line Company, LLC.

Description: Compliance filing 2018 Transco Penalty Revenue Sharing Report.

Filed Date: 10/29/18.

Accession Number: 20181029-5102.

Comments Due: 5 p.m. ET 11/13/18.

Docket Numbers: RP19-137-000.

Applicants: Natural Gas Pipeline Company of America.

Description: § 4(d) Rate Filing: Negotiated Rate Agreement—CapacityRelease Macquarie L to be effective 10/27/2018.

Filed Date: 10/29/18.

Accession Number: 20181029-5118.

Comments Due: 5 p.m. ET 11/13/18.

Docket Numbers: RP19-138-000.

Applicants: Iroquois Gas Transmission System, L.P.

Description: § 4(d) Rate Filing: 102918 Negotiated Rates—Mercuria Energy America, Inc. R-7540-02 to be effective 11/1/2018.

Filed Date: 10/29/18.

Accession Number: 20181029-5121.

Comments Due: 5 p.m. ET 11/13/18.

Docket Numbers: RP19-139-000.

Applicants: Portland Natural Gas Transmission System.

Description: § 4(d) Rate Filing: PXP Phase I Agreements Filing to be effective 11/1/2018.

Filed Date: 10/29/18.

Accession Number: 20181029-5163.

Comments Due: 5 p.m. ET 11/13/18.

Docket Numbers: RP19-140-000.

Applicants: Texas Eastern Transmission, LP.

Description: § 4(d) Rate Filing: TETLP-Gulfport Energy K911377 11-01-18 Release to be effective 11/1/2018.

Filed Date: 10/30/18.

Accession Number: 20181030-5026.

Comments Due: 5 p.m. ET 11/13/18.

Docket Numbers: RP19-141-000.

Applicants: Gulf South Pipeline Company, LP.

Description: § 4(d) Rate Filing: Cap Rel Neg Rate Agmt (Atmos 45527 to 50143; 50143 to CenterPt 50149)) to be effective 11/1/2018.

Filed Date: 10/30/18.

Accession Number: 20181030-5027.

Comments Due: 5 p.m. ET 11/13/18.

Docket Numbers: RP19-142-000.

Applicants: Gulf South Pipeline Company, LP.

Description: § 4(d) Rate Filing: Amendment to Neg Rate Agmt (FPL 41619-18) to be effective 11/1/2018.

Filed Date: 10/30/18.

Accession Number: 20181030-5028.

Comments Due: 5 p.m. ET 11/13/18.

Docket Numbers: RP19-143-000.

Applicants: Texas Gas Transmission, LLC.

Description: § 4(d) Rate Filing: Neg Rate Agmt Filing (Indiana Gas 37026) to be effective 11/1/2018.

Filed Date: 10/30/18.

Accession Number: 20181030-5030.

Comments Due: 5 p.m. ET 11/13/18.

Docket Numbers: RP19-144-000.

Applicants: Texas Gas Transmission, LLC.

Description: § 4(d) Rate Filing: Neg Rate Agmts Filing (PEAK 36805, 36806) to be effective 11/1/2018.

Filed Date: 10/30/18.

Accession Number: 20181030-5034.

Comments Due: 5 p.m. ET 11/13/18.

Docket Numbers: RP19-145-000.

Applicants: Natural Gas Pipeline Company of America.

Description: § 4(d) Rate Filing: Negotiated Rate Agreement-Capacity Release Macquarie 10302018 to be effective 10/30/2018.

Filed Date: 10/30/18.

Accession Number: 20181030-5043.

Comments Due: 5 p.m. ET 11/13/18.

Docket Numbers: RP19-146-000.

Applicants: Trunkline Gas Company, LLC.

Description: Compliance filing Annual Interruptible Storage Revenue Credit filed 10-31-18.

Filed Date: 10/30/18.

Accession Number: 20181030-5062.

Comments Due: 5 p.m. ET 11/13/18.

Docket Numbers: RP19-147-000.

Applicants: Algonquin Gas Transmission, LLC.

Description: § 4(d) Rate Filing: AGT-Bay State K510804 11-1-18 Releases to be effective 11/1/2018.

Filed Date: 10/30/18.

Accession Number: 20181030-5066.

Comments Due: 5 p.m. ET 11/13/18.

Docket Numbers: RP19-149-000.

Applicants: Pine Prairie Energy Center, LLC.

Description: § 4(d) Rate Filing: Pine Prairie Energy Center, LLC—Proposed Revisions to FERC Gas Tariff to be effective 11/30/2018.

Filed Date: 10/30/18.

Accession Number: 20181030-5099.

Comments Due: 5 p.m. ET 11/13/18.

Docket Numbers: RP19-150-000.

Applicants: Texas Eastern Transmission, LP.

Description: § 4(d) Rate Filing: Negotiated Rates eff 11-1-2018—ConEd NJNY Releases to be effective 11/1/2018.

Filed Date: 10/30/18.

Accession Number: 20181030-5119.

Comments Due: 5 p.m. ET 11/13/18.

Docket Numbers: RP19-151-000.

Applicants: Texas Eastern Transmission, LP.

Description: § 4(d) Rate Filing: Negotiated Rate—Castleton 911552 to be effective 11/1/2018.

Filed Date: 10/30/18.

Accession Number: 20181030-5122.

Comments Due: 5 p.m. ET 11/13/18.

Docket Numbers: RP19-152-000.

Applicants: Dauphin Island Gathering Partners.

Description: § 4(d) Rate Filing: Negotiated Rate Filing 10-30-2018 to be effective 11/1/2018.

Filed Date: 10/30/18.

Accession Number: 20181030-5152.

Comments Due: 5 p.m. ET 11/13/18.

Docket Numbers: RP19-153-000.

Applicants: Cimarron River Pipeline, LLC.

Description: § 4(d) Rate Filing: Negotiated Rates 2018-11-01 to be effective 11/1/2018.

Filed Date: 10/30/18.

Accession Number: 20181030-5179.

Comments Due: 5 p.m. ET 11/13/18.

Docket Numbers: RP19-154-000.

Applicants: Colorado Interstate Gas Company, L.L.C..

Description: § 4(d) Rate Filing: Storage Thermal Rate Adjustment Filing (Mainline) to be effective 11/1/2018.

Filed Date: 10/30/18.

Accession Number: 20181030-5186.

Comments Due: 5 p.m. ET 11/13/18.

Docket Numbers: RP19-155-000.

Applicants: Southern Star Central Gas Pipeline, Inc..

Description: § 4(d) Rate Filing: Vol. 2 Negotiated and Non-Conforming PLS-Tenaska November 2018 Amendment to be effective 10/1/2018.

Filed Date: 10/30/18.

Accession Number: 20181030-5203.

Comments Due: 5 p.m. ET 11/13/18.

Docket Numbers: RP19-156-000.

Applicants: Central Kentucky Transmission Company.

Description: eTariff filing per 1440: Central Kentucky Limited Section 4 Tax Reduction Filing to be effective 12/1/2018.

Filed Date: 10/30/18.

Accession Number: 20181030-5209.

Comments Due: 5 p.m. ET 11/13/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2018.
Nathaniel J. Davis, Sr.,
Deputy Secretary.

[FR Doc. 2018-24242 Filed 11-5-18; 8:45 am]

BILLING CODE 6717-01-P